DEPARTMENT OF VETERANS AFFAIRS

38 CFR Part 17

RIN 2900-AL60

Sensori-Neural Aids

AGENCY: Department of Veterans Affairs.

ACTION: Proposed rule.

SUMMARY: This document amends Department of Veterans Affairs (VA) medical regulations concerning sensori-neural aids. An existing regulation authorizes VA to provide sensori-neural aids (i.e., eyeglasses, contact lenses, hearing aids) to seven specific groups of veterans identified in the regulation. The first four groups consist of veterans with the highest priority for care under VA's enrollment system, generally those with compensable service-connected disabilities, former prisoners of war, and those receiving increased VA pension based on their being housebound or in need of regular aid and attendance. Subsequent to promulgating the regulation, Congress changed the law to provide that veterans awarded the Purple Heart should have priority equal to former prisoners of war under VA's enrollment system. To be consistent, VA is proposing to amend the sensori-neural aids regulation to allow veterans in receipt of a Purple Heart to also receive sensori-neural aids.

DATES: Comments must be received on or before September 29, 2003.

ADDRESSES: Mail or hand-deliver written comments to: Director, Regulations Management (00REG1), Department of Veterans Affairs, 810 Vermont Ave., NW., Room 1064, Washington, DC 20420; or fax comments to (202) 273-9026; or e-mail comments to OGCRegulations@mail.va.gov. Comments should indicate that they are submitted in response to “RIN 2900-AL60.” All comments received will be available for public inspection in the Office of Regulation Policy and Management, Room 1158, between the hours of 8 a.m. and 4:30 p.m., Monday through Friday (except holidays). Please call (202) 273-9515 for an appointment.

FOR FURTHER INFORMATION CONTACT: Frederick Downs, Jr., Chief Consultant, Prosthetics and Sensory Aids Service Strategic Healthcare Group (113), Department of Veterans Affairs, 810 Vermont Avenue, NW., Washington, DC 20420, (202) 273-8515. (This is not a toll-free number.)

SUPPLEMENTARY INFORMATION: The “Veterans' Health Care Eligibility Reform Act of 1996,” Public Law No. 104-262 (Eligibility Reform Act) made major changes in the laws governing eligibility for VA health care benefits. That law amended 38 U.S.C. 1710, authorizing VA to furnish virtually all needed hospital care and medical services (i.e., outpatient care) to veterans, including prosthetic devices and similar appliances. Prior to enactment of the Eligibility Reform Act, VA was generally prohibited from furnishing prosthetic devices and similar appliances on an outpatient basis. Although Congress expanded VA's authority to furnish veterans with prosthetic devices and similar appliances, it expressly provided in the law that with respect to sensori-neural aids (i.e., eyeglasses, contact lenses, hearing aids), VA could exercise that authority only in accordance with guidelines prescribed by the Secretary. 38 U.S.C. 1707(b) (previously codified as 38 U.S.C. 1701(6)(A)(i)). The purpose of that proviso in the law was to permit VA to decide that it would not furnish eyeglasses and hearing aids to all veterans. In 1997, VA published an interim final rule establishing guidelines for the provision of sensori-neural aids. 62 FR 30240 (June 3, 1997). The final rule was effective on December 9, 1997 (62 FR 64722).

The Eligibility Reform Act also directed VA to establish a system of annual patient enrollment (38 U.S.C. 1705). The purpose of the enrollment system was to provide a mechanism for prioritizing the provision of VA health care if available resources were insufficient to provide all needed care to all veterans who sought it. The law initially established seven priority categories, although Congress subsequently expanded that to eight categories. The eight specific categories are enumerated in 38 U.S.C. 1705(a).

The guidelines that VA promulgated to govern the provision of sensori-neural aids specifically listed groups of veterans who could receive such devices. Listed were the veterans included in enrollment categories 1 through 4, and certain other veterans with unique vision and hearing needs. Veterans in enrollment priority categories 1 through 4, who are also specifically made eligible for sensori-neural aids under the guidelines, are veterans with compensable service-connected conditions, former prisoners of war, and nonservice-connected veterans in receipt of increased pension based on the need for regular aid and attendance or by reason of being permanently housebound.

In 1999, some 2 years after VA promulgated the rule governing sensori-neural aids, Congress passed Public Law No. 106-117, the “Veterans Millennium Health Care and Benefits Act” (Millennium Act). The Millennium Act amended the law establishing the enrollment priority categories. In this Act, Congress added to enrollment priority category 3, those veterans who were awarded the Purple Heart. Those veterans were, in short, given enrollment priority status at the same level as service-connected veterans rated 10 percent or 20 percent and former POWs. In order to be consistent with that change in law, VA believes it appropriate to also provide that those veterans be eligible for sensori-neural aids. Accordingly, we propose to amend the guidelines to include in § 17.149(b), veterans who received the Purple Heart.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This proposed amendment would have no such effect on State, local, or tribal governments, or the private sector.

Executive Order 12866

This document has been reviewed by the Office of Management and Budget under Executive Order 12866.

Paperwork Reduction Act

This document contains no provisions constituting a collection of information under the Paperwork Reduction Act (44 U.S.C. 3501-3521).

Regulatory Flexibility Act

The Secretary of Veterans Affairs (VA) hereby certifies that this proposed regulatory amendment will not have a significant economic impact on a substantial number of small entities as they are defined in the Regulatory Flexibility Act, 5 U.S.C. 601-612. This proposed amendment would affect only veterans receiving certain VA benefits and does not affect any small entities. Therefore, pursuant to 5 U.S.C. 605(b), this proposed amendment is exempt from the initial and final regulatory flexibility analysis requirements of sections 603 and 604.

Catalog of Federal Domestic Assistance Numbers

The Catalog of Federal Domestic Assistance Numbers are 64.009, 64.010, 64.011, and 64.013.

List of Subjects in 38 CFR Part 17

Administrative practice and procedure, Alcohol abuse, Alcoholism, Claims, Day care, Dental health, Drug abuse, Foreign relations, Government contracts, Grant programs-health, Government programs-veterans, Health care, Health facilities, Health professions, Health records, Homeless, Medical and dental schools, Medical devices, Medical research, Mental health programs, Nursing home care, Philippines, Reporting and recordkeeping requirements, Scholarships and fellowships, Travel and transportation expenses, Veterans.

Approved: June 25, 2003.
Anthony J. Principi,
Secretary of Veterans Affairs.

For the reasons set forth in the preamble, VA proposes to amend 38 CFR part 17 as follows:

PART 17—MEDICAL

1. The authority citation for part 17 continues to read as follows:

Authority: 38 U.S.C. 501, 1721, unless otherwise noted.

2. Section 17.149, is amended by:

a. Redesignating paragraphs (b)(3) through (b)(7) as paragraphs (b)(4) through (b)(8), respectively; and

b. Adding a new paragraph (b)(3).

The addition reads as follows:

§ 17.149 Sensori-neural aids.

* * * * *

(b) * * *

(3) Those awarded a Purple Heart;

* * * * *

[FR Doc. 03-19441 Filed 7-30-03; 8:45 am]

BILLING CODE 8320-01-P